DEPARTMENT OF COMMERCE

International Trade Administration

[A-570-851]

Certain Preserved Mushrooms From the People's Republic of China: Rescission of Antidumping Duty New Shipper Review

AGENCY: Import Administration, International Trade Administration, Department of Commerce.

SUMMARY: In response to a request from Zhangzhou Long Mountain Foods Co., Ltd. (Long Mountain), the Department of Commerce (the Department) initiated a new shipper review of the antidumping duty order on certain preserved mushrooms from the People's Republic of China (PRC) covering the period of review February 1, 2010, through January 31, 2011. See Certain Preserved Mushrooms From the People's Republic of China: Initiation of Antidumping Duty New Shipper Review, 76 FR 17836 (March 31, 2011) (Initiation Notice). On April 26, 2011, Long Mountain withdrew its request for a new shipper review. Accordingly, the Department is rescinding the new shipper review with respect to Long Mountain.

DATES: Effective Date: May 18, 2011.

FOR FURTHER INFORMATION CONTACT: Mark Flessner or Robert James, AD/CVD Operations, Office 7, Import Administration, International Trade Administration, U.S. Department of Commerce, 14th Street and Constitution Avenue, NW., Washington, DC 20230; telephone: (202) 482-6312 or (202) 482-0649, respectively.

SUPPLEMENTARY INFORMATION:

Background

On February 28, 2011, the Department received a timely request from Long Mountain in accordance with section 751(a)(2)(b)(i) of the Tariff Act of 1930, as amended (the Act), and 19 CFR 351.214(b)(1) for a new shipper review of the antidumping duty order on certain preserved mushrooms from the PRC. On March 31, 2011, the Department found that the request for a new shipper review of Long Mountain met all of the regulatory requirements set forth in 19 CFR 351.214(b)(2) and initiated the requested antidumping duty new shipper review. See Initiation Notice. On April 26, 2011, Long Mountain submitted a letter to the Department in which it stated that it was withdrawing its new shipper review request and requesting that the Department terminate the new shipper review. See letter from Long Mountain entitled “Certain Preserved Mushrooms from China; Long Mountain—Withdrawal from New Shipper Review,” dated April 26, 2011.

Rescission of New Shipper Review

Section 351.214(f)(1) of the Department's regulations provides that the Department may rescind a new shipper review if the party that requested the review withdraws its request for review within 60 days of the date of publication of the notice of initiation of the requested review. Long Mountain withdrew its request for a new shipper review 26 days after the date of publication of the notice of initiation of the requested review.

Based upon the above, the Department is rescinding the new shipper review of the antidumping duty order on certain preserved mushrooms from the PRC with respect to Long Mountain.

As the Department is rescinding the new shipper review of Long Mountain, it is not calculating a company-specific rate for Long Mountain. Long Mountain will remain part of the PRC-wide entity.

Assessment

Long Mountain remains under review as part of the PRC entity in the ongoing administrative review covering the 2010-2011 POR. See Initiation of Antidumping Duty Administrative Reviews, Requests for Revocation in Part, and Deferral of Administrative Review, 76 FR 17825 (March 31, 2011). Therefore, the Department will not order liquidation of entries for Long Mountain. The Department intends to issue liquidation instructions for the PRC entity, which will cover any entries by Long Mountain, 15 days after publication of the final results of the ongoing administrative review covering the 2010-2011 POR.

Cash Deposit

The Department will notify U.S. Customs and Border Protection (CBP) that bonding is no longer permitted to fulfill security requirements for subject merchandise produced and exported by Long Mountain that is entered, or withdrawn from warehouse, for consumption in the United States on or after the publication of this rescission notice in the Federal Register. The Department will notify CBP that a cash deposit of 198.63 percent should be collected for all shipments of subject merchandise entered, or withdrawn from warehouse, for consumption in the United States on or after the publication of this rescission notice, by Long Mountain.

Notification to Interested Parties

This notice serves as the only reminder to parties subject to administrative protective order (APO) of their responsibility concerning the return or destruction of proprietary information disclosed under APO in accordance with 19 CFR 351.305(a). Timely written notification of the return/destruction of APO materials or conversion to judicial protective order is hereby requested. Failure to comply with the regulations and terms of an APO is a violation which is subject to sanction.

We are issuing and publishing this rescission and notice in accordance with section 777(i) of the Act and 19 CFR 351.214(f)(3).

Dated: May 11, 2011.
Christian Marsh,
Deputy Assistant Secretary for Antidumping and Countervailing Duty Operations.

[FR Doc. 2011-12235 Filed 5-17-11; 8:45 am]

BILLING CODE 3510-DS-P